DELAWARE RIVER BASIN COMMISSION

Notice of Commission Meeting and Public Hearing

Notice is hereby given that the Delaware River Basin Commission will hold an informal conference followed by a public hearing on Wednesday, May 18, 2005. The hearing will be part of the Commission's regular business meeting. Both the conference session and business meeting are open to the public and will be held at the Shawnee Inn, Shawnee-on-the-Delaware, Pennsylvania.

The conference among the commissioners and staff will begin at 10 a.m. Topics of discussion will include: a status report on the PCB Stage 2 TMDL development process; a report on the Delaware Estuary Science Conference of May 10-11, 2005, Linking Science and Management for the Delaware Estuary; an update on the Pennsylvania Act 220 state water planning process, including regional priorities; a presentation on the DRBC Water Monitoring and Assessment Program (EPA “Ten Elements Plan”); and a presentation on the April 2005 flooding in the Delaware River Basin by National Weather Service and Pennsylvania Emergency Management Agency representatives.

The subjects of the public hearing to be held during the 1:30 p.m. business meeting include the dockets listed below:

1. Fry Farms, Inc. D-82-36-1. An application for approval of a ground and surface water withdrawal project to supply up to 100 million gallons per thirty days (mg/30 days) of water to the applicant's agricultural irrigation system from new Wells Nos. 1 and 2 in the Columbia Formation, and up to 76 mg/30 days from Intakes Nos. 1, 2, 3 and 4 in the farm pond, and to limit the withdrawal from all sources to 176 mg/30 days. The project is located in the Mispillion River Watershed in the Town of Milford, Sussex County, Delaware.

2. Artesian Water Company, Inc. D-2002-34 CP-2. An application for approval of a ground water withdrawal project to supply up to 43.2 mg/30 days of water to the applicant's public water supply distribution system from a new aquifer storage and recovery (ASR) well in the Upper Potomac Formation in the Llangollen wellfield, and to retain the existing withdrawal from the applicant's 15 wellfields supplying the New Castle County distribution system at 593.06 mg/30 days. The project is located in the Army Creek Watershed in New Castle County, Delaware.

3. William Chandler D-2005-9-1. An application for approval of a ground water withdrawal project to supply up to 32 million gallons per thirty days (mg/30 days) of water to the applicant's irrigation system from new Wells Nos. 1 and 2 in the Columbia Formation. The water will be used to irrigate approximately 118 acres of corn and soybeans. The project is located in the Murderkill River Watershed in the Town of Felton, Kent County, Delaware.

4. Haddon Township D-66-65 CP-2. An application for approval of a ground water withdrawal project to supply water to the applicant's public supply distribution system from replacement Wells Nos. 1A, 2A, 3A and 5 in the Potomac-Raritan-Magothy Formation and to increase the existing withdrawal from all wells from 60 million gallons per thirty days (mg/30 days) to 62 mg/30 days. The project is located in the Newton Creek Watershed in Haddon Township, Camden County, New Jersey.

5. Colorite Polymers D-84-46-2. An application for the renewal of a ground water withdrawal project to supply up to 114 million gallons per thirty days (mg/30 days) of water to the applicant's industrial plant site from supply Wells Nos. 4, 7, 8, 9 and 10 and up to 12 mg/30 days from Well No. 1. The project is located in the Delaware River Watershed in Burlington Township, Burlington County, New Jersey. (This was NAR'd as D-84-46 Renewal 2.)

6. Larchmont Farms, Inc. D-86-37-3. An application for the renewal of a ground and surface water withdrawal project to continue withdrawal of 100 million gallons per 30 days to supply the applicant's agricultural irrigation system from an existing pond; existing Wells Nos. 1, 2 and 3; and new Wells Nos. 4, 5, 6, 7, 8, 9, 10 and 11. The project is located in the Cohansey Formation in Upper Pittsgrove Township, Salem County and Upper Deerfield Township, Cumberland County, both in New Jersey.

7. Aqua New Jersey, Inc. (Formerly Consumers New Jersey Water Company, Inc.) D-93-13 CP-2. An application for approval of a ground water withdrawal project to supply up to 21.6 mg/30 days of water to the applicant's Blackwood District public water supply distribution system from new Well No. 20 in the Cohansey Formation, and to retain the existing combined withdrawal of 198.5 mg/30 days from all wells. The Blackwood District distribution system includes a total of 16 wells, of which 10 are located inside the Delaware River Basin. The system serves an area located primarily within the Basin. Proposed Well No. 20, located within the Basin, will replace Well No. 8, located outside of the Basin. Well No. 8 has become contaminated with MTBE. The project is located in the Big Timber Creek Watershed in Gloucester Township, Camden County, New Jersey.

8. Township of Florence D-94-82 CP-2. An application for approval of a ground water withdrawal project to supply up to 31.54 million gallons per 30 days (mg/30 days) of water to the applicant's public water supply distribution system from new Well No. 6 in the Potomac-Raritan-Magothy Aquifer, and to increase the combined withdrawal from all wells by 31.54 mg/30 days, to 115 mg/30 days. The project is located in the Delaware River Watershed in the Township of Florence, Burlington County, New Jersey.

9. Borough of Clayton D-95-45 CP-2. An application for the renewal of ground water withdrawal project to increase withdrawal from 31.0 mg/30 days to 41.85 mg/30 days to supply the applicant's public water distribution system from existing Wells Nos. 3, 4, 5, and 6 in the Potomac-Raritan-Magothy, Wenonah-Mt. Laurel, and Kirkwood-Cohansey formations in the Maurice River watershed. The project is located in Clayton Borough, Gloucester County, New Jersey. (This was NAR'd as D-95-45 CP Renewal.)

10. Township of Medford D-95-55 CP-2. An application to replace the withdrawal of water from Well No. 4 in the applicant's water supply system that has become an unreliable source of supply and that the total withdrawal from all wells remain limited to 77 mg/30 days. The project is located in the South Branch Rancocas Creek Watershed in Medford Township, Burlington County, New Jersey.

11. Borough of Branchville D-2000-27 CP-1. An application for approval of a ground water and surface water withdrawal project to supply up to 6.2 mg/30 days of water to the applicant's public water distribution system from Wells Nos. 1 and 2 in the Kittatinny Aquifer, and 6.2 mg/30 days from Dry Brook Reservoir, and to limit the combined total withdrawal from all sources to 6.2 mg/30 days. The project is located in Branchville Borough, Sussex County, New Jersey. (This docket was NAR'd as D-2000-27 CP.)

12. U.S. Silica Company D-2004-30-1. An application for approval of a ground water and surface water withdrawal project to supply up to 6.7 million gallons per thirty days (mg/30 days) of water from existing Well No. 3 in the Kirkwood-Cohansey Formation and up to 491.04 mg/30 days from existing surface water Intakes Nos. 1 through 3 and new Intakes Nos. 4 and 5 for sand and gravel processing. The surface water ponds are in connection with and fed by groundwater. The groundwater allocation of 6.7 mg/30 days is used for non-contact cooling water which is returned to the ponds. The surface water is used to process the sand and gravel in a loop system which returns approximately 90% of the water to the ponds. The combined allocation will be limited to 491.04 mg/30 days and 3,910.96 million gallons per year. The project is located in the Maurice River Watershed in Commercial Township, Cumberland County, New Jersey.

13. NGC Industries D-2005-4-1. An application for approval of a surface water withdrawal project to supply up to 19 million gallons per thirty days of water to the applicant's manufacturing facility from intake No. 1 on the Delaware River. The project is located in the Delaware River Watershed in Pennsauken Township, Camden County, New Jersey.

14. Newtown Artesian Water Company D-78-29 CP-2. An application for approval of a ground water withdrawal project to supply up to 11.1 million gallons per thirty days (mg/30 days) of water to the applicant's public water supply distribution system from Replacement Well No. 4 in the Stockton Formation, and to limit the existing withdrawal from all wells to 44.81 mg/30 days. In addition, the total annual withdrawal from Replacement Well No. 4 and Wells Nos. 5, 6 and 18 (located in the Newtown Creek Subbasin) will be limited to 340 mg/30 days. Replacement Well No. 4 will replace former Well No. 4 which declined substantially in yield. The project also includes a primary interconnection with the Bucks County Water and Sewer Authority for up to 3 mgd. The project is located in the Newtown Creek and Lower Neshaminy Creek watersheds in Newtown Borough and Newtown and Middletown townships, Bucks County, Pennsylvania and is located in the Southeastern Ground Water Protected Area.

15. Rock-Tenn Company D-80-25-1. An application for approval of a ground and surface water withdrawal project to supply up to 13.89 million gallons per thirty days (mg/30 days) of water to the applicant's paper processing facility via the Brodhead Creek intake and 0.0039 mg/30 days from the Warehouse Well and the Boiler House Well and to limit the existing withdrawal from all sources to 13.9 mg/30 days. The project is located in the Brodhead Creek Watershed in Delaware Water Gap Borough, Monroe County, Pennsylvania.

16. Mid-Atlantic Canners Association D-86-83-3. An application for the renewal of a ground water withdrawal project to continue withdrawal of 5.7 million gallons per 30 days to supply the applicant's bottling and canning facility from existing Wells Nos. 1, 2 and 3. The project is located in the Schuylkill River Watershed in Hamburg Borough, Berks County, Pennsylvania.

17. Roamingwood Sewer and Water Association D-88-45 CP-3. An application for the renewal of a ground water withdrawal project to reduce withdrawal from 26.69 million gallons per thirty days (mg/30 days) to 20.0 mg/30 days to supply the applicant's Hideout Development distribution system from existing Wells Nos. 1, 2, 3, 4 and 5. The project is located in the Arial Creek Watershed in Lake and Salem townships, Wayne County, Pennsylvania.

18. Hansen Nurseries D-88-66-3. An application for the renewal of a ground water withdrawal project to continue withdrawal of 10.02 million gallons per thirty days (mg/30 days) to supply the applicant's nursery from existing Wells Nos. 1 and 33. The project is located in the Schlegel Run Creek Watershed in Douglass Township, Montgomery County, Pennsylvania and is located in the Southeastern Pennsylvania Ground Water Protected Area.

19. Aqua Pennsylvania, Inc. (Formerly Pennsylvania Suburban Water Company) D-91-86 CP-2. An application to provide up to 50.0 million gallons per thirty (mg/30 days) from ten existing wells to the API “ Great Valley Division public water supply distribution system. This allocation represents a decrease from 74.76 mg/30 days based on the removal of several declining ground water sources in the distribution system. The project also includes three existing interconnections; two from Aqua Pennsylvania, Inc. Main and West Chester Divisions, and one from Chester Water Authority. The project is located in Hunters Run, Ridley Creek, Chester Creek, Plum Run, Broad Run, Radley Run and Brandywine watersheds in East Goshen, West Goshen, Westtown, Birmingham, West Whiteland and East Bradford townships, Chester County, and is located in the Southeastern Pennsylvania Ground Water Protected Area.

20. Big Boulder Corporation D-93-53-2. An application for the renewal of a surface water withdrawal project to continue withdrawal of 121 million gallons per thirty days (mg/30 days) to supply the applicant's snow making operations from an existing surface water intake in Big Boulder Lake, on an unnamed tributary of Tunkhannock Creek. The project is located in Kidder Township, Carbon County, Pennsylvania.

21. Newstech PA, LLP D-94-22-2. An application to expand a 0.36 million gallon per day (mgd) industrial waste treatment plant to process 1.728 mgd. The project is located at the applicant's Northampton pulp mill, formerly owned by Ponderosa Fibers of PA, in Northampton Borough, Northampton County, Pennsylvania. Following advanced wastewater treatment processes, effluent will be discharged to the Lehigh River through the existing outfall, which is located in the drainage area of the Lower Delaware River Management Plan.

22. DS Waters of America, LP D-97-46-2. An application to continue the withdrawal of up to 300,000 gallons per day (gpd) (9.0 mg/30 days) of spring water at the Arrowhead Springs Farm with the addition of a new source designated Spring No. 1, also known as Big Spring. Spring No. 1 will be used in conjunction with the existing source, Spring No. 3, as the primary sources for the withdrawal. The applicant will continue to utilize spring water for bulk water supply to its bottling plants located in Lancaster and Ephrata, Pennsylvania. The project intakes are located on a tributary to Mill Creek in the Tulpehocken Creek Watershed, in Millcreek Township, Lebanon County, Pennsylvania.

23. Northampton Bucks County Municipal Authority D-2001-13 CP-2. An application for renewal of a ground water withdrawal project to continue to supply up to 66.0 million gallons per thirty days of water for public water supply from existing Wells Nos. 1 through 13, 16 and 17, all located in the Stockton Formation. No increase in allocation is proposed. The project is located in the Neshaminy Creek and Ironworks Creek watersheds in Northampton Township, Bucks County, Pennsylvania and is located in the Southeastern Ground Water Protected Area.

24. RiverCrest Community Association, Inc. D-2001-45-2. An application to rerate a sewage treatment plant (STP) from a maximum monthly flow of 0.1 mgd to process up to 114,675 gpd, while continuing to provide advanced secondary level treatment via extended aeration and rapid sand filtration processes. Construction of the River Crest STP is nearing completion at the River Crest golf course community development located off Black Rock Road and State Route 29 in Upper Providence Township, Montgomery County, Pennsylvania. For most of the year, STP effluent will be spray irrigated on approximately 142 acres of golf course grounds and about 27 acres of turf at the development. However, during prolonged cold and wet weather periods, effluent will flow from two storage ponds to unnamed tributaries of the Schuylkill River, an area conditionally designated as “Modified Recreational” in the DRBC's Comprehensive Plan.

25. Borough of Strausstown D-2005-6 CP-1. An application to construct a 0.065 million gallon per day (mgd) sewage treatment plant (STP) to provide advanced secondary treatment via activated sludge and chemically-aided phosphorus removal processes. The proposed STP and sewage collection system will serve Strausstown Borough and a portion of Upper Tulpehocken Township, both in Berks County, Pennsylvania. Following ultraviolet light disinfection, STP effluent will be discharged to Jackson Creek, a tributary of Little Northkill Creek in the Tulpehocken Creek Watershed. The proposed STP will be situated off the intersection of Pennsylvania Route 183 and Old Route 22 (Main Street) in Upper Tulpehocken Township.

26. Pennsylvania Department of Conservation and Natural Resources D-2005-8 CP-1. An application to replace a 33,000 gallon per day (gpd) extended aeration sewage treatment plant (STP) with a 60,000 gpd sequencing batch reactor process. The new STP will continue to serve visitors and staff at the Hickory Run State Park facility, located off State Route 534 at the head of the Hickory Run Trail in Kidder Township, Carbon County, Pennsylvania. STP effluent will continue to be discharged to Hickory Run, a tributary of the Lehigh River in the drainage area of the Lower Delaware River Management Plan. The existing STP outfall will be demolished. Ultraviolet light disinfection will be provided.

In addition to the public hearing on the dockets listed above, the Commission's 1:30 p.m. business meeting will include possible action on a resolution to amend the Water Quality Regulations, Water Code and Comprehensive Plan by establishing Pollutant Minimization Plan Requirements for point and non-point source discharges following issuance of a TMDL or assimilative capacity determination; a resolution for the minutes to solicit public comment on permanent designation of the Lower Delaware River as Special Protection Waters with a classification of Significant Resource Waters, including numeric values for existing water quality in the Lower Delaware River; a resolution authorizing the executive director to enter into an agreement with the U.S. Army Corps of Engineers for the removal of debris from the Port Jervis Ice Diversion Channel; a resolution for the minutes authorizing the executive director to engage the firm of Public Affairs Management LLC for up to three months to communicate the benefits of DRBC to various government bodies and to advance the restoration of federal funding in accordance with Section 13.3 of the Compact; a resolution authorizing the executive director to accept funds from the Pennsylvania Department of Environmental Protection for biological sampling and assessment to support Pennsylvania's Regional Environmental Monitoring and Assessment Program (REMAP); and a resolution providing for the election of the Commission Chair, Vice Chair and Second Vice Chair for DRBC Fiscal Year 2005-2006.

The meeting will also include: adoption of the Minutes of the January 19, 2005 and March 16, 2005 business meetings; announcements; a report on basin hydrologic conditions; a report by the executive director; a report by the Commission's general counsel; and an opportunity for public dialogue. Draft dockets and the resolutions scheduled for public hearing or action on May 18, 2005, will be posted on the Commission's Web site, http://www.drbc.net, where they can be accessed through the Notice of Commission Meeting and Public Hearing. Additional documents relating to the dockets and other items may be examined at the Commission's offices. Please contact William Muszynski at 609-883-9500, extension 221 with any docket-related questions.

Individuals in need of an accommodation as provided for in the Americans with Disabilities Act who wish to attend the informational meeting, conference session or hearings should contact the commission secretary directly at 609-883-9500 ext. 203 or through the Telecommunications Relay Services (TRS) at 711, to discuss how the Commission may accommodate your needs.

Dated: April 26, 2005.
Pamela M. Bush,
Commission Secretary.

[FR Doc. 05-8733 Filed 5-2-05; 8:45 am]

BILLING CODE 6360-01-P